DEPARTMENT OF ENERGY

Federal Energy Regulatory Commission

Notice of Cultural Resource Meeting

Beverly Lock and Dam Water Power | Project No. 13404-002
Devola Lock and Dam Water Power Project | Project No. 13405-002
Malta/McConnelsville Lock and Dam Water Power Project | Project No. 13406-002
Lowell Lock and Dam Water Power Project | Project No. 13407-002
Philo Lock and Dam Water Power Project | Project No. 13408-002
Rokeby Lock and Dam Water Power Project | Project No. 13411-002

a. Project Name and Number: Beverly Lock & Dam Water Power Project No. 13404; Devola Lock & Dam Water Power Project No. 13405; Malta Lock & Dam Water Power Project No. 13406; Lowell Lock & Dam Water Power Project No. 13407; Philo Lock & Dam Water Power Project No. 13408; and Rokeby Lock & Dam Water Power Project No. 13411.

b. Date and Time of Meeting: October 29, 2015; 1:00 p.m. Eastern Time.

c. Place: Telephone conference with the Seneca Nation.

d. FERC Contact: Colleen Corballis, colleen.corballis@ferc.gov or (202) 502-8598.

e. Purpose of Meeting: Tribal consultation meeting to provide an overview of the above-listed six projects (Muskingum River Projects) and to discuss the Seneca Nation's comments concerning the HPMPs.

f. A summary of the meeting will be prepared and filed in the Commission's public file for the project.

g. All local, state, and federal agencies, Indian tribes, and other interested parties are invited to participate by phone. Please contact Colleen Corballis at colleen.corballis@ferc.gov or (202) 502-8598 by close of business October 27, 2015, to R.S.V.P. and to receive specific instructions on how to participate.

Dated: October 14, 2015.
Kimberly D. Bose,
Secretary.

[FR Doc. 2015-26543 Filed 10-19-15; 8:45 am]

BILLING CODE 6717-01-P